DEPARTMENT OF LABOR

Employment and Training Administration

[TA-W-63,183]

Tenneco, Formerly Tenneco, Inc., Milan, Ohio; Notice of Termination of Investigation

Pursuant to Section 221 of the Trade Act of 1974, as amended, an investigation was initiated on April 14, 2008 in response to a petition filed by the United Automobile, Aerospace and Agricultural Implement Workers of America (UAW), Local 2352, and a company official on behalf of workers at Tenneco, Milan, Ohio.

The workers were under an existing trade adjustment assistance (TAA) and alternative trade adjustment assistance (ATAA) certification that expired on April 19, 2008.

The petitioners have requested that the petition be withdrawn. The company intends to submit a new petition for TAA at a period of time closer to the date of separations or threat of separations.

Consequently, further investigation in this case would serve no purpose, and the investigation has been terminated.

Signed at Washington, DC this 25th day of April 2008.
Elliott S. Kushner,
Certifying Officer, Division of Trade Adjustment Assistance.

[FR Doc. E8-9657 Filed 5-1-08; 8:45 am]

BILLING CODE 4510-FN-P